DEPARTMENT OF STATE

[Public Notice 8612]

60-Day Notice of Proposed Information Collection: Electronic Application for Immigration Visa and Alien Registration

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES(S): The Department will accept comments from the public up to March 31, 2014.

ADDRESSES: You may submit comments by any of the following methods:

• Web: Persons with access to the Internet may use the Federal Docket Management System (FDMS) to comment on this notice by going to www.Regulations.gov. You can search for the document by entering “Public Notice 8612” in the Search bar. If necessary, use the Narrow by Agency filter option on the Results page.

• Email: PRA_BurdenComments@state.gov.

You must include the DS form number (if applicable), information collection title, and the OMB control number in any correspondence.

FOR FURTHER INFORMATION CONTACT: Direct requests for additional information regarding the collection listed in this notice, including requests for copies of the proposed collection instrument and supporting documents, to Sydney Taylor at PRA_BurdenComments@state.gov.

SUPPLEMENTARY INFORMATION:

• Title of Information Collection: Electronic Application for Immigration and Alien Registration.

• OMB Control Number: DS-260.

• Type of Request: Revision of a Currently Approved Collection.

• Originating Office: CA/VO/L/R.

• Form Number: DS-260.

• Respondents: Immigrant Visa Applicants.

• Estimated Number of Respondents: 645,000.

• Estimated Number of Responses: 645,000.

• Average Time per Response: 2 hours.

• Total Estimated Burden Time: 1,290,000 hours.

• Frequency: Once per Respondent.

• Obligation to Respond: Required to Obtain Benefits.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: Form DS-260 will be used to elicit information to determine the eligibility of aliens applying for immigrant visas.

Methodology: The DS-260 will be submitted electronically to the Department via the internet. The applicant will be instructed to print a confirmation page containing a 2-D bar code record locator, which will be scanned at the time of adjudication. Applicants who submit the electronic application will no longer submit paper-based applications to the Department.

Dated: January 17, 2014.
Edward Ramotowski,
Deputy Assistant Secretary, Bureau of Consular Affairs, Department of State.

[FR Doc. 2014-01750 Filed 1-28-14; 8:45 am]

BILLING CODE 4710-06-P